DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On June 12, 2019, OFAC determined that the property and interests in property subject to U.S. jurisdiction of the following persons are blocked under the relevant sanctions authorities listed below.

Entities

1. SOUTH WEALTH RESOURCES COMPANY (a.k.a. MANABEA THARWAT AL-JANOOB GENERAL TRADING COMPANY, LLC; a.k.a. SHIRKAT MANABI' THARAWAT AL-JANUB LILTIJARAH AL-`AMMAH; a.k.a. SOUTH WEALTH RESOURCES LTD.), Al Jadriya District, Baghdad, Iraq; Additional Sanctions Information—Subject to Secondary Sanctions [SDGT] [IRGC] [IFSR] (Linked To: ISLAMIC REVOLUTIONARY GUARD CORPS (IRGC)-QODS FORCE).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, IRGC-QODS FORCE, an entity whose property and interests in property are blocked pursuant to E.O. 13224.

Individuals

1. `ABD AL-HAMID AL-ASADI, Makki Kazim (a.k.a. ABDUL HAMEED AL ASADI, Makki Kadhim), Basrah, Iraq; DOB 10 Oct 1957; Additional Sanctions Information—Subject to Secondary Sanctions (individual) [SDGT] [IRGC] [IFSR] (Linked To: ISLAMIC REVOLUTIONARY GUARD CORPS (IRGC)-QODS FORCE).

Designated pursuant to section 1(d)(i) of E.O. 13224 for assisting in, sponsoring, or providing financial, material, or technological support for, or financial or other services to or in support of, Iran's IRGC-QODS FORCE, an entity whose property and interests in property are blocked pursuant to E.O. 13224.

2. SALIH AL HASANI, Mohammed Hussein (a.k.a. AL-HUSAYNI, Mohammed Hossein); DOB 01 Jul 1954; Additional Sanctions Information—Subject to Secondary Sanctions; Passport A9298980 (Iraq) (individual) [SDGT] [IFSR] (Linked To: SOUTH WEALTH RESOURCES COMPANY).

Designated pursuant to section 1(c) of E.O. 13224 for acting for or on behalf of South Wealth Resources Company, an entity whose property and interests in property are blocked pursuant to E.O. 13224.

Dated: June 12, 2019.
Andrea M. Gacki,
Director, Office of Foreign Assets Control.

[FR Doc. 2019-12878 Filed 6-17-19; 8:45 am]

BILLING CODE 4810-AL-P